EXPORT-IMPORT BANK OF THE UNITED STATES

[Public Notice 2012-0521]

Agency Information Collection Activities: Comment Request

AGENCY: Export-Import Bank of the United States.

ACTION: Submission for OMB Review and comments request.

Form Title: EIB 05-01 Marketing Fax Back Response Form.

SUMMARY: The Export-Import Bank of the United States (Ex-Im Bank), as a part of its continuing effort to reduce paperwork and respondent burden, invites the general public and other Federal Agencies to comment on the proposed information collection, as required by the Paperwork Reduction Act of 1995.

The Marketing Fax Back Response Form is used to collect basic information on United States companies. This information will be provided the Export Import Bank's financial consultants nationwide and will be used to provide assistance to exporters.

The form may be viewed at www.exim.gov/pub/pending/eib05-01.pdf Marketing Fax Back Response Forms.

DATES: Comments should be received on or before October 31, 2012 to be assured of consideration.

ADDRESSES: Comments maybe submitted electronically on WWW.REGULATIONS.GOV or by mail to Office of Information and Regulatory Affairs, 725 17th Street NW., Washington, DC 20038, Attn: OMB 3048-0029.

SUPPLEMENTARY INFORMATION: Titles and Form Number EIB 05-01 Marketing Fax Back Response Form:

OMB Number: 3048-0029.

Type of Review: Regular.

Need and Use: The Marketing Fax Back Response Form is used to collect basic information on United States companies. This information will be provided the Export Import Bank's financial consultants nationwide to assist in providing counsel to exporters.

Annual Number of Respondents: 500.

Estimated Time per Respondent: 3 minutes.

Frequency of Reporting or Use: Once per year.

Government Annual Burden Hours: 25 hours.

Estimated Annual Government costs: $968.00.

Sharon A. Whitt,
Agency Clearance Officer.

[FR Doc. 2012-24054 Filed 9-28-12; 8:45 am]

BILLING CODE 6690-01-P